NUCLEAR REGULATORY COMMISSION

[Docket No. 40-8943; NRC-2022-0153]

Crow Butte Resources, Inc.; In Situ Uranium Recovery Facility

AGENCY: Nuclear Regulatory Commission.

ACTION: Draft environmental assessment supplement and finding of no significant impact; request for comment.

SUMMARY: The U.S. Nuclear Regulatory Commission (NRC) is issuing for public comment a draft finding of no significant impact (FONSI) and accompanying draft supplement to the NRC staff's environmental assessment (EA) for the license renewal of the Crow Butte Resources, Inc. (CBR) in situ uranium recovery (ISR) facility located in Dawes County, Nebraska. Based on the analysis in the draft EA Supplement, the NRC staff has preliminarily concluded that there will be no significant impacts to cultural resources from the renewal of CBR's license and, therefore, a finding of no significant impact (FONSI) remains appropriate.

DATES: Submit comments by September 26, 2022. Comments received after this date will be considered, if it is practical to do so, but the Commission is able to ensure consideration only for comments received on or before this date.

ADDRESSES: You may submit comments by any of the following methods; however, the NRC encourages electronic comment submission through the Federal rulemaking website:

• Federal rulemaking website: Go to https://www.regulations.gov and search for Docket ID NRC-2022-0153. Address questions about Docket IDs in Regulations.gov to Stacy Schumann; telephone: 301-415-0624; email: Stacy.Schumann@nrc.gov. For technical questions, contact the individual listed in the For Further Information Contact section of this document.

• Mail comments to: Office of Administration, Mail Stop: TWFN-7-A60M, U.S. Nuclear Regulatory Commission, Washington, DC 20555-0001, ATTN: Program Management, Announcements and Editing Staff.

• Email comments to: CrowButte-LicRenSEA@nrc.gov.

For additional direction on obtaining information and submitting comments, see “Obtaining Information and Submitting Comments” in the SUPPLEMENTARY INFORMATION section of this document.

FOR FURTHER INFORMATION CONTACT: Jean Trefethen, Office of Nuclear Material Safety and Safeguards, U.S. Nuclear Regulatory Commission, Washington, DC 20555-0001; telephone: 301-415-0867; email: Jean.Trefethen@nrc.gov.

SUPPLEMENTARY INFORMATION:

I. Obtaining Information and Submitting Comments

A. Obtaining Information

Please refer to Docket ID NRC-2022-0153 when contacting the NRC about the availability of information regarding this document. You may obtain publicly available information related to this action by the following methods:

• Federal Rulemaking Website: Go to https://www.regulations.gov and search for Docket ID NRC-2022-0153.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The draft Supplemental EA can be found in ADAMS under Accession No. ML22223A161.

• NRC's PDR: You may examine and purchase copies of public documents, by appointment, at the NRC's Public Document Room (PDR), Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

• Project Website: Information related to the CBR project can be accessed on the NRC's CBR website at https://www.nrc.gov/info-finder/materials/uranium/licensed-facilities/crow-butte.html. Under the section titled “Operating,” scroll down to “Key Documents” and click on Draft EA, Draft Report for Comment.

B. Submitting Comments

The NRC encourages electronic comment submission through the Federal rulemaking website (https://www.regulations.gov). Please include Docket ID NRC-2022-0153 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The NRC is issuing for public comment the draft FONSI and accompanying draft Supplement to the NRC staff's EA for the license renewal of CBR's ISR facility. The draft Supplement describes the NRC staff's efforts to address the deficiencies identified in the Atomic Safety and Licensing Board's partial initial decision (LBP-16-7), which found that the NRC staff did not meet its identification obligations under the National Historic Preservation Act (NHPA) and was deficient under the National Environmental Policy Act (NEPA) “for failing to take a hard look at potential TCPs [traditional cultural properties] within the Crow Butte license area[.]” Specifically, the Supplement describes the methodology, implementation, and results of the 2021 tribal cultural survey to identify sites of significance to the Oglala Sioux Tribe. It also documents the NRC staff's evaluation of the identified sites according to the criteria for listing in the National Register of Historic Places (NRHP) and the NRC staff's assessment of potential impacts of the license renewal on the identified sites under the NHPA (for sites eligible for the NRHP) or NEPA (for other sites of significance to the Tribe). Based on these evaluations in the EA Supplement, the NRC staff preliminarily concludes that there will be no significant impacts to cultural resources identified during the 2021 tribal cultural survey. Accordingly, based on the 2014 EA and the draft EA Supplement, the staff has preliminarily concluded that an environmental impact statement is not necessary and a FONSI remains appropriate.

III. Draft Finding of No Significant Impact

Based on its review of the proposed action, in accordance with the requirements in part 51 of title 10 of the Code of Federal Regulations (10 CFR), “Environmental Protection Regulations for Domestic Licensing and Related Regulatory Functions,” the NRC staff has preliminarily concluded that the proposed action, renewal of NRC Source Materials License No. SUA-1534 for CBR's ISR facility located in Crawford, Nebraska, will not have a significant impact on the cultural resources discussed in the EA Supplement and will not significantly affect the quality of the human environment. Therefore, the NRC staff has preliminarily determined, pursuant to 10 CFR 51.31, that preparation of an environmental impact statement is not required for the proposed action and a FONSI is appropriate.

Dated: August 23, 2022.
For the Nuclear Regulatory Commission.
John M. Moses,
Deputy Director, Division of Rulemaking, Environmental and Financial Support, Office of Nuclear Material Safety, and Safeguards.

[FR Doc. 2022-18435 Filed 8-25-22; 8:45 am]

BILLING CODE 7590-01-P